COMMODITY FUTURES TRADING COMMISSION

17 CFR Part 4

RIN 3038-AB97

Additional Registration and Other Regulatory Relief for Commodity Pool Operators and Commodity Trading Advisors; Past Performance Issues

Correction

In rule document 03-20094 beginning on page 47221 in the issue of Friday, August 8, 2003, make the following correction:

PART 4—COMMODITY POOL OPERATORS AND COMMODITY TRADING ADVISORS

Appendix B to Part 4—[Corrected]

On page 47236, in appendix B, in the table, in the last line “&− 1=10%” should read “− 1=10%”.

[FR Doc. C3-20094 Filed 9-9-03; 8:45 am]

BILLING CODE 1505-01-D

DEPARTMENT OF DEFENSE

Office of the Secretary

32 CFR Part 179

Munitions Response Site Prioritization Protocol

Correction

In proposed rule document 03-21013 beginning on page 50900 in the issue of Friday, August 22, 2003, make the following corrections:

1. On page 50900, in the first column, under the heading addresses, in the sixth line from the bottom, “http://” should read, “https://”.

2. On the same page, in the same column, under the heading for further information contact, in the second line from the bottom, “http://” should read, “https://”.

3. On page 50908, in the table heading, “MODULE TYPE” should read, “MODULE MUNITIONS TYPE”.

4. On page 50917, in Table 13, under the heading “Score”, in the third entry, “10” should read, “5”.

Appendix A to 32 CFR Part 179—[Corrected]

5. On page 50937, in appendix A to 32 CFR part 179, in Table 11, under the heading “Classification and description”, in the seventh line, “CWM 20 known” should read, “CWM known”.

6. On page 50940, in the same appendix, in Table 19, under the heading “Score”, in the fourth entry, “10” should read, “0”.

[FR Doc. C3-21013 Filed 9-9-03; 8:45 am]

BILLING CODE 1505-01-D